NATIONAL SCIENCE FOUNDATION

Conservation Act of 1978; Notice of Permit Modification

AGENCY: National Science Foundation.

SUMMARY: The Foundation modified a permit to conduct activities regulated under the Antarctic Conservation Act of 1978 (Public Law 95-541; Code of Federal Regulation Title 45, Part 670).

FOR FURTHER INFORMATION CONTACT: Nadene G. Kennedy, Permit Officer, Office of Polar Programs, Rm. 755, National Science Foundation, 4201 Wilson Boulevard, Arlington, VA 22230.

Description of Permit and Modification

On September 25, 1998, the National Science Foundation issued a permit (ACA #99-009) to Dr. William R. Fraser after posting a notice in the August 27, 1998 Federal Register. Public comments were not received. A request to modify the permit was posted in the Federal Register on March 13, 2001. No public comments were received. The modification, issued by the Foundation on April 20, 2001, allows the permit holder to capture, study and release up to 50 Emperor penguins, 100 Gentoo penguins, 100 Chinstrap penguins, and 100 each of Snow, Cape and Antarctic Petrels. The data collected will help to access how annual environmental variability affects seabird diets, breeding success, growth rates, and population trends.

Location: Antarctic Peninsula.

Nadene G. Kennedy,
Permit Officer.

[FR Doc. 01-10675 Filed 4-27-01; 8:45 am]

BILLING CODE 7555-01-M